DEPARTMENT OF ENERGY

Federal Energy Regulatory Commission

Combined Notice of Filings #1

Take notice that the Commission received the following electric corporate filings:

Docket Numbers: EC21-119-000.

Applicants: CID Solar, LLC, Cottonwood Solar, LLC, Dominion Solar Gen-Tie, LLC, Pavant Solar LLC, RE Camelot LLC, RE Columbia, LLC, RE Columbia Two LLC.

Description: Application for Authorization Under Section 203 of the Federal Power Act of CID Solar, LLC, et al.

Filed Date: 8/20/21.

Accession Number: 20210820-5250.

Comment Date: 5 p.m. ET 9/10/21.

Take notice that the Commission received the following exempt wholesale generator filings:

Docket Numbers: EG21-223-000.

Applicants: Fairbanks Solar Energy Center LLC.

Description: Notice of Self-Certification of Exempt Wholesale Generator Status of Fairbanks Solar Energy Center LLC.

Filed Date: 8/19/21.

Accession Number: 20210819-5127.

Comment Date: 5 p.m. ET 9/9/21.

Docket Numbers: EG21-224-000.

Applicants: PGR 2021 Lessee 7, LLC.

Description: Notice of Self-Certification of Exempt Wholesale Generator of EG or FC of PGR 2021 Lessee 7, LLC.

Filed Date: 8/23/21.

Accession Number: 20210823-5129.

Comment Date: 5 p.m. ET 9/13/21.

Take notice that the Commission received the following electric rate filings:

Docket Numbers: ER20-1282-001.

Applicants: Midcontinent Independent System Operator, Inc., American Transmission Company LLC.

Description: Compliance filing: Midcontinent Independent System Operator, Inc. submits tariff filing per 35: 2021-08-23_ATC Order 864 Compliance Filing to be effective 1/27/2020.

Filed Date: 8/23/21.

Accession Number: 20210823-5178.

Comment Date: 5 p.m. ET 9/13/21.

Docket Numbers: ER20-2607-001.

Applicants: New England Power Company.

Description: Compliance filing: Amended Order No. 864 Compliance Filing re Seabrook Transmission Support Agmt to be effective 1/27/2020.

Filed Date: 8/20/21.

Accession Number: 20210820-5196.

Comment Date: 5 p.m. ET 9/10/21.

Docket Numbers: ER20-2608-001.

Applicants: Public Service Company of New Hampshire.

Description: Compliance filing: Order No. 864 Compliance Filing, RM19-5 to be effective 1/27/2020.

Filed Date: 8/20/21.

Accession Number: 20210820-5207.

Comment Date: 5 p.m. ET 9/10/21.

Docket Numbers: ER21-1866-002.

Applicants: Otter Tail Power Company.

Description: Tariff Amendment: Amendment to Filing re Schedule and Appendices of OMA 230kV Bemidji-Grand Rapids to be effective 10/22/2021.

Filed Date: 8/23/21.

Accession Number: 20210823-5165.

Comment Date: 5 p.m. ET 9/13/21.

Docket Numbers: ER21-2164-001.

Applicants: MATL LLP.

Description: Compliance filing: Order No. 676 Amended Waiver Filing ER21-2164 to be effective 5/15/2015.

Filed Date: 8/23/21.

Accession Number: 20210823-5109.

Comment Date: 5 p.m. ET 9/13/21.

Docket Numbers: ER21-2304-000; ER21-2294-000.

Applicants: Arlington Energy Center II, LLC, Arlington Solar, LLC.

Description: Supplement to June 30, 2021 Arlington Energy Center II, LLC, et al.

Filed Date: 8/17/21.

Accession Number: 20210817-5171.

Comment Date: 5 p.m. ET 8/30/21.

Docket Numbers: ER21-2731-000.

Applicants: PJM Interconnection, L.L.C.

Description: § 205(d) Rate Filing: Original WMPA, Service Agreement No. 6153; Queue No. AG1-498 to be effective 7/21/2021.

Filed Date: 8/20/21.

Accession Number: 20210820-5189.

Comment Date: 5 p.m. ET 9/10/21.

Docket Numbers: ER21-2733-000.

Applicants: PJM Interconnection, L.L.C.

Description: Tariff Amendment: Notice of Cancellation of ISA, No. 5072; Queue No. AB2-129 to be effective 5/22/2021.

Filed Date: 8/23/21.

Accession Number: 20210823-5074.

Comment Date: 5 p.m. ET 9/13/21.

Docket Numbers: ER21-2734-000.

Applicants: SE Athos I, LLC.

Description: § 205(d) Rate Filing: Filing of Shared Facilities and Shared Land Rights Agmt and Request for Waivers to be effective 8/25/2021.

Filed Date: 8/23/21.

Accession Number: 20210823-5111.

Comment Date: 5 p.m. ET 9/13/21.

Docket Numbers: ER21-2735-000.

Applicants: California Independent System Operator Corporation.

Description: § 205(d) Rate Filing: 2021-08-23 MEEA No. 2 Time Ext—WAPA to be effective 11/1/2021.

Filed Date: 8/23/21.

Accession Number: 20210823-5116.

Comment Date: 5 p.m. ET 9/13/21.

Docket Numbers: ER21-2736-000.

Applicants: Duke Energy Carolinas, LLC.

Description: § 205(d) Rate Filing: DEC Revised Depreciation Rate Schedule No. 514 to be effective 4/1/2021.

Filed Date: 8/23/21.

Accession Number: 20210823-5159.

Comment Date: 5 p.m. ET 9/13/21.

Docket Numbers: ER21-2737-000.

Applicants: Duke Energy Progress, LLC.

Description: § 205(d) Rate Filing: DEP Revised Depreciation Rates in Rate Schedule No. 199 to be effective 4/1/2021.

Filed Date: 8/23/21.

Accession Number: 20210823-5179.

Comment Date: 5 p.m. ET 9/13/21.

Docket Numbers: ER21-2738-000.

Applicants: NECEC Transmission LLC.

Description: § 205(d) Rate Filing: Bilateral, Cost-Based TSAs Incorporating Third Amendments (Eversource) to be effective 8/24/2021.

Filed Date: 8/23/21.

Accession Number: 20210823-5183.

Comment Date: 5 p.m. ET 9/13/21.

Docket Numbers: ER21-2739-000.

Applicants: NECEC Transmission LLC.

Description: § 205(d) Rate Filing: Bilateral, Cost-Based TSAs Incorporating Third Amendments (National Grid) to be effective 8/24/2021.

Filed Date: 8/23/21.

Accession Number: 20210823-5184.

Comment Date: 5 p.m. ET 9/13/21.

Docket Numbers: ER21-2740-000.

Applicants: PJM Interconnection, L.L.C.

Description: § 205(d) Rate Filing: Original ISA, Service Agreement No. 6154; Queue No. AE1-185 to be effective 7/27/2021.

Filed Date: 8/23/21.

Accession Number: 20210823-5185.

Comment Date: 5 p.m. ET 9/13/21.

Docket Numbers: ER21-2741-000.

Applicants: SE Athos II, LLC.

Description: § 205(d) Rate Filing: Certificate of Concurrence to be effective 8/25/2021.

Filed Date: 8/23/21.

Accession Number: 20210823-5186.

Comment Date: 5 p.m. ET 9/13/21.

Docket Numbers: ER21-2742-000.

Applicants: NECEC Transmission LLC.

Description: § 205(d) Rate Filing: Bilateral, Cost-Based TSAs Incorporating Third Amendments (Unitil) to be effective 8/24/2021.

Filed Date: 8/23/21.

Accession Number: 20210823-5187.

Comment Date: 5 p.m. ET 9/13/21.

Docket Numbers: ER21-2743-000.

Applicants: NECEC Transmission LLC.

Description: § 205(d) Rate Filing: Bilateral, Cost-Based TSAs Incorporating Third Amendments (HQUS Eversource) to be effective 8/24/2021.

Filed Date: 8/23/21.

Accession Number: 20210823-5189.

Comment Date: 5 p.m. ET 9/13/21.

Docket Numbers: ER21-2744-000.

Applicants: NECEC Transmission LLC.

Description: § 205(d) Rate Filing: Bilateral, Cost-Based TSAs Incorporating Third Amendments (HQUS National Grid) to be effective 8/24/2021.

Filed Date: 8/23/21.

Accession Number: 20210823-5190.

Comment Date: 5 p.m. ET 9/13/21.

Docket Numbers: ER21-2745-000.

Applicants: NECEC Transmission LLC.

Description: § 205(d) Rate Filing: Bilateral, Cost-Based TSAs Incorporating Third Amendments (HQUS Unitil) to be effective 8/24/2021.

Filed Date: 8/23/21.

Accession Number: 20210823-5195.

Comment Date: 5 p.m. ET 9/13/21.

Docket Numbers: ER21-2746-000.

Applicants: Freeport McMoRan Copper & Gold Energy Services LLC.

Description: Report Regarding Wholesale Sales of Electricity in the Western Electricity Coordinating Council of Freeport-McMoRan Copper & Gold Energy Services, LLC.

Filed Date: 8/20/21.

Accession Number: 20210820-5252.

Comment Date: 5 p.m. ET 9/10/21.

Docket Numbers: ER21-2747-000.

Applicants: NECEC Transmission LLC.

Description: § 205(d) Rate Filing: Bilateral, Cost-Based TSAs Incorporating Third Amendments (HQUS Additional) to be effective 8/24/2021.

Filed Date: 8/23/21.

Accession Number: 20210823-5196.

Comment Date: 5 p.m. ET 9/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2021.
Kimberly D. Bose,
Secretary.

[FR Doc. 2021-18500 Filed 8-26-21; 8:45 am]

BILLING CODE 6717-01-P